DEPARTMENT OF ENERGY

Federal Energy Regulatory Commission

[Docket No. RP05-157-005]

Saltville Gas Storage Company L.L.C.; Notice of Filing

August 30, 2005.

Take notice that on August 17, 2005, Saltville Gas Storage Company L.L.C. (“Saltville”) tendered for filing an original and five copies of a Firm Storage Service Agreement (“FSS Agreement”) with Sequent Energy Management, L.P. The subject agreement is in all respects the same as the FSS Agreement between Saltville and NUI Energy Brokers, Inc. (“NUIEB”) previously filed with and approved by the Commission, but the agreement is corrected to reflect that the shipper is NUIEB's successor, Sequent Energy Management, L.P. Saltville requests an effective date of January 1, 2005 for the FSS Agreement, and requests that the Commission grant any authorizations and waivers of the Commission's regulations that are necessary to permit that effective date.

Saltville states that copies of the filing were mailed to all customers of Saltville and affected state commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. Eastern Time on September 6, 2005.

Magalie R. Salas,
Secretary.

[FR Doc. E5-4860 Filed 9-6-05; 8:45 am]

BILLING CODE 6717-01-P